DEPARTMENT OF COMMERCE

International Trade Administration

[C-560-841]

Aluminum Extrusions From Indonesia: Final Affirmative Countervailing Duty Determination

AGENCY: Enforcement and Compliance, International Trade Administration, Department of Commerce.

SUMMARY: The U.S. Department of Commerce (Commerce) determines that countervailable subsidies are being provided to producers and exporters of aluminum extrusions from Indonesia. The period of investigation (POI) is January 1, 2022, through December 31, 2022.

DATES: Applicable October 3, 2024.

FOR FURTHER INFORMATION CONTACT: Thomas Martin or Krisha Hill, AD/CVD Operations, Office IV, Enforcement and Compliance, International Trade Administration, U.S. Department of Commerce, 1401 Constitution Avenue NW, Washington, DC 20230; telephone: (202) 482-3936 or (202) 482-4037, respectively.

SUPPLEMENTARY INFORMATION:

Background

On March 11, 2024, Commerce published the Preliminary Determination in the Federal Register.¹ Commerce invited parties to comment on the Preliminary Determination.² On July 22, 2024, Commerce tolled certain deadlines in this administrative proceeding by seven days.³ The deadline for the final determination is now September 26, 2024.

¹ See Aluminum Extrusions from Indonesia: Preliminary Affirmative Countervailing Duty Determination and Alignment of Final Determination With the Final Antidumping Duty Determination, 89 FR 17405 (March 11, 2024) (Preliminary Determination), and accompanying Preliminary Decision Memorandum (PDM).

² Id.

³ See Memorandum, “Tolling of Deadlines for Antidumping and Countervailing Duty Proceedings,” dated July 22, 2024.

For a complete description of the events that followed the Preliminary Determination, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Final Affirmative Determination in the Countervailing Duty Investigation of Aluminum Extrusions from the Indonesia,” dated concurrently with, and hereby adopted by, this notice (Issues and Decision Memorandum).

Scope of the Investigation

The products covered by this investigation are aluminum extrusions from Indonesia. For a complete description of the scope of the investigation, see Appendix I.

Scope Comments

During the course of this investigation, Commerce received scope comments from interested parties. Commerce issued Preliminary Scope Decision Memoranda to address these comments and set aside a period of time for parties to address scope issues in scope-specific case and rebuttal briefs.⁵ Between May 22, 2024, and June 24, 2024, Commerce received post-preliminary determination scope comments from interested parties regarding numerous products and scope-related issues. Between July 20, 2024, and August 19, 2024, Commerce received scope case and rebuttal briefs from numerous interested parties. We made changes to the scope of the investigation from the scope published in the Preliminary Determination, as noted in Appendix I.⁶

⁵ See Memoranda, “Preliminary Scope Decision Memorandum,” dated March 4, 2024, and “Preliminary Scope Decision Memorandum II,” dated May 1, 2024 (collectively Preliminary Scope Decision Memoranda).

⁶ See Memorandum, “Final Scope Decision Memorandum,” dated concurrently with this notice.

Analysis of Subsidy Programs and Comments Received

The subsidy programs under investigation, and the issues raised in the case and rebuttal briefs by parties in this investigation, are discussed in the Issues and Decision Memorandum. For a list of the issues raised by parties, and to which we responded in the Issues and Decision Memorandum, see Appendix II.

Methodology

Commerce conducted this investigation in accordance with section 701 of the Tariff Act of 1930, as amended (the Act). For each of the subsidy programs found to be countervailable, Commerce determines that there is a subsidy, i.e., a financial contribution by an “authority” that gives rise to a benefit to the recipient, and that the subsidy is specific.⁷ For a full description of the methodology underlying our final determination, see the Issues and Decision Memorandum.

⁷ See sections 771(5)(B) and (D) of the Act regarding financial contribution; see also section 771(5)(E) of the Act regarding benefit; and section 771(5A) of the Act regarding specificity.

In making this final determination, Commerce relied on total facts otherwise available, including with an adverse inference, pursuant to sections 776(a) and (b) of the Act. For a full discussion of our application of adverse facts available (AFA), see the Preliminary Determination ⁸ and the Issues and Decision Memorandum at the section entitled “Use of Facts Otherwise Available and Application of Adverse Inferences.”

⁸ See PDM at 5-12.

Verification

Consistent with section 782(i) of the Act, in May 2024, Commerce verified all information reported by PT Indal Aluminum Industry TBK (Indal), PT Alfo Citra Abadi (PT Alfo), and the Government of Indonesia (GOI). We used standard verification procedures, including an examination of relevant account records and original source documents provided by the respondents.⁹

⁹ See Memoranda, “Verification of the Questionnaire Responses of Indonesia” dated June 26, 2024; and “Verification of the Questionnaire Responses of PT Indal Aluminum Industry and PT Indal Reiwa Auto,” dated June 26, 2024.

Changes Since the Preliminary Determination

Based on our review and analysis of the information received during verification and comments received from parties, for this final determination, we made certain changes to the countervailable subsidy rate calculations for Indal, PT Alfo, and for all other producers/exporters. For a discussion of these changes, see the Issues and Decision Memorandum.

All-Others Rate

In accordance with section 705(c)(1)(B)(i) of the Act, we calculated an individual estimated countervailable subsidy rate for the two mandatory respondents, Indal and PT Alfo. Section 705(c)(5)(A)(i) of the Act states that, for companies not individually investigated, Commerce will determine an all-others rate equal to the weighted-average countervailable subsidy rates established for exporters and/or producers individually investigated, excluding any zero and de minimis countervailable subsidy rates, and any rates determined entirely under section 776 of the Act.

In this investigation, we continue to calculate a total net subsidy rate for Indal that is de minimis and a net subsidy rate for PT Alfo that is not zero, de minimis, or based entirely on the facts otherwise available. Because Commerce calculated an individual estimated countervailable subsidy rate for PT Alfo that is not zero, de minimis, or based entirely on the facts otherwise available, we have assigned an all-others rate based on the estimated subsidy rate calculated for PT Alfo.

Final Determination

Commerce determines that the following estimated net countervailable subsidy rates exist for the period January 1, 2022, through December 31, 2022:

¹⁰ Commerce continues to determine that PT Indal Aluminium Industry Tbk. is cross-owned with PT Indal Reiwa Auto. See Preliminary Determination PDM at 14. For the final determination we also find that PT Indal Aluminium Industry Tbk is cross-owned with PT Husin Investama. See Issues and Decision Memorandum at 4 and Comment 1.

Company | Subsidy rate (percent ad valorem)
PT Indal Aluminium Industry Tbk; PT Indal Reiwa Auto; PT Husin Investama ¹⁰ | ** 0.53
PT Alfo Citra Abadi | 6.69
Alutech | * 33.79
All Others | 6.69
* Rate is based on AFA.
** De minimis.

Disclosure

Commerce intends to disclose its calculations and analysis performed to interested parties in this final determination within five days of its public announcement or, if there is no public announcement, within five days of the date of the publication of this notice in the Federal Register, accordance with 19 CFR 351.244(b).

Suspension of Liquidation

As a result of our Preliminary Determination, and pursuant to sections 703(d)(1)(B) and (d)(2) of the Act, Commerce instructed U.S. Customs and Border Protection (CBP) to collect cash deposits and suspend liquidation of entries of subject merchandise as described in the scope of the investigation section entered, or withdrawn from warehouse, for consumption on or after March 11, 2024, the date of publication of the Preliminary Determination in the Federal Register, except for Indal and its cross-owned companies because its preliminary rate was de minimis. In accordance with section 703(d) of the Act, we instructed CBP to discontinue the suspension of liquidation of all entries of subject merchandise entered or withdrawn from warehouse, on or after July 9, 2024, but to continue the suspension of liquidation of all entries of subject merchandise that were subject to suspension of liquidation on or before July 8, 2024.

If the U.S. International Trade Commission (ITC) issues a final affirmative injury determination, we will issue a countervailing duty order, reinstate the suspension of liquidation under section 706(a) of the Act, and require a cash deposit of estimated countervailing duties for such entries of subject merchandise, other than those produced and exported by Indal and its cross-owned companies because its rate is de minimis, in the amounts indicated above, in accordance with section 706(a) of the Act. Because the subsidy rate for Indal and its cross-owned companies is de minimis, Commerce will instruct CBP not to suspend liquidation of entries of the merchandise from this company, in accordance with section 705(a)(3) of the Act. If the ITC determines that material injury, or threat of material injury, does not exist, this proceeding will be terminated, and all estimated duties deposited or securities posted as a result of the suspension of liquidation will be refunded or canceled.

ITC Notification

In accordance with section 705(d) of the Act, Commerce will notify the ITC of its final affirmative determination that countervailable subsidies are being provided to producers and exporters of aluminum extrusions from Indonesia. As Commerce's final determination is affirmative, in accordance with section 705(b) of the Act, the ITC will determine, within 45 days, whether the domestic industry in the United States is materially injured, or threated with material injury, by reason of import of aluminum extrusions from Indonesia. In addition, we are making available to the ITC all non-privileged and non-proprietary information in our files, provided the ITC confirms that it will not disclose such information, either publicly or under administrative protective order (APO), without the written consent of the Assistant Secretary for Enforcement and Compliance.

If the ITC determines that material injury or threat of material injury does not exist, this proceeding will be terminated and all cash deposits will be refunded. If the ITC determines that such injury does exist, Commerce will issue a countervailing duty order directing CBP to assess, upon further instruction by Commerce, countervailing duties on all imports of the subject merchandise that are entered, or withdrawn, for consumption on or after the effective date of the suspension of liquidation, as discussed above in the “Continuation of Suspension of Liquidation” section.

Administrative Protective Order

In the event that the ITC issues a final negative injury determination, this notice will serve as the only reminder to parties subject to the APO of their responsibility concerning the destruction of proprietary information disclosed under APO, in accordance with 19 CFR 351.305(a)(3). Timely written notification of the return/destruction of APO materials or conversion to judicial protective order is hereby requested. Failure to comply with the regulations and terms of an APO is a violation which is subject to sanction.

Notification to Interested Parties

This determination is issued and published pursuant to sections 705(d) and 777(i) of the Act, and 19 CFR 351.210(c).

Dated: September 26, 2024.
Abdelali Elouaradia,
Deputy Assistant Secretary for Enforcement and Compliance.

Appendix I

Scope of the Investigation

The merchandise subject to this investigation are aluminum extrusions, regardless of form, finishing, or fabrication, whether assembled with other parts or unassembled, whether coated, painted, anodized, or thermally improved. Aluminum extrusions are shapes and forms, produced by an extrusion process, made from aluminum alloys having metallic elements corresponding to the alloy series designations published by the Aluminum Association commencing with the numbers 1, 3, and 6 (or proprietary equivalents or other certifying body equivalents). Specifically, subject aluminum extrusions made from an aluminum alloy with an Aluminum Association series designation commencing with the number 1 contain not less than 99 percent aluminum by weight. Subject aluminum extrusions made from an aluminum alloy with an Aluminum Association series designation commencing with the number 3 contain manganese as the major alloying element, with manganese accounting for not more than 3.0 percent of total materials by weight. Subject aluminum extrusions made from an aluminum alloy with an Aluminum Association series designation commencing with the number 6 contain magnesium and silicon as the major alloying elements, with magnesium accounting for at least 0.1 percent but not more than 2.0 percent of total materials by weight, and silicon accounting for at least 0.1 percent but not more than 3.0 percent of total materials by weight. The scope also includes merchandise made from an aluminum alloy with an Aluminum Association series designation commencing with the number 5 (or proprietary equivalents or other certifying body equivalents) that have a magnesium content accounting for up to but not more than 2.0 percent of total materials by weight.

The country of origin of the aluminum extrusion is determined by where the metal is extruded (i.e., pressed through a die).

Aluminum extrusions are produced and imported in a wide variety of shapes and forms, including, but not limited to, hollow profiles, other solid profiles, pipes, tubes, bars, and rods. Aluminum extrusions that are drawn subsequent to extrusion (drawn aluminum) are also included in the scope.

Subject aluminum extrusions are produced and imported with a variety of coatings and surface treatments, and types of fabrication. The types of coatings and treatments applied to aluminum extrusions include, but are not limited to, extrusions that are mill finished (i.e., without any coating or further finishing), brushed, buffed, polished, anodized (including bright dip), liquid painted, electroplated, chromate converted, powder coated, sublimated, wrapped, and/or bead blasted. Subject aluminum extrusions may also be fabricated, i.e., prepared for assembly, or thermally improved. Such operations would include, but are not limited to, extrusions that are cut-to-length, machined, drilled, punched, notched, bent, stretched, stretch-formed, hydroformed, knurled, swedged, mitered, chamfered, threaded, spun, etched, and engraved. Performing such operations in third countries does not otherwise remove the merchandise from the scope of the investigation.

The types of products that meet the definition of subject merchandise include but are not limited to, the aluminum extrusion portions of vehicle roof rails and sun/moon roof framing, solar panel racking rails and framing, tradeshow display fixtures and framing, parts for tents or clear span structures, fence posts, drapery rails or rods, electrical conduits, door thresholds, flooring trim, electric vehicle battery trays, heat sinks, signage or advertising poles, telescoping poles, or cleaning system components.

Aluminum extrusions may be heat sinks, which are fabricated aluminum extrusions that dissipate heat away from a heat source and may serve other functions, such as structural functions. Heat sinks come in a variety of sizes and shapes, including but not limited to a flat electronic heat sink, which is a solid aluminum extrusion with at least one flat side used to mount electronic or mechanical devices; a heat sink that is a housing for electronic controls or motors; lighting heat sinks, which dissipate heat away from LED devices; and process and exchange heat sinks, which are tube extrusions with fins or plates used to hold radiator tubing. Heat sinks are included in the scope, regardless of whether the design and production of the heat sinks are organized around meeting specified thermal performance requirements and regardless of whether they have been tested to comply with such requirements. For purposes of the investigations on aluminum extrusions from the People's Republic of China, only heat sinks designed and produced around meeting specified thermal performance requirements and tested to comply with such requirements are included in the scope. Excluded from the scope of the investigation are large, multi-finned extruded aluminum heat sinks designed to dissipate heat, meeting the following criteria: (1) an aspect ratio (defined as the ratio of the area of a void in an extrusion to the size of the smallest gap opening at the entrance of that void and calculated by dividing the void area by the square of the gap opening) greater than 15 to 1; or (2) the circumscribing circle diameter (defined as the diameter of the smallest circle that will entirely enclose the extrusion's cross-sectional profile) rounded up to the next half inch, exceeds 10 inches, and the weight-per-foot (defined as the theoretical weight of the profile as extruded prior to any machining that may remove material and calculated by multiplying the area of the profile in square inches by 1.2) exceeds 3.50 pounds per foot.

Merchandise that is comprised solely of aluminum extrusions or aluminum extrusions and fasteners, whether assembled at the time of importation or unassembled, is covered by the scope in its entirety. A fastener is any material or part that serves an attachment function, fastens two or more components, or serves to prevent or restrict movement of a component or another item. Examples of fasteners include, but are not limited to, nuts, bolts, clamps, and end caps.

The scope also includes aluminum extrusions contained in merchandise that is a part or subassembly of a larger whole, whether or not the merchandise also contains a component other than aluminum extrusions that is beyond a fastener. Such merchandise may be either assembled or unassembled at the time of importation. A “part or subassembly” is defined as a unit designed to be attached to, or incorporated with, one or more other units or components into a larger completed product. Only the aluminum extrusion portion of the merchandise described in this paragraph, whether assembled or unassembled, is subject merchandise included in the scope and subject to duties. Examples of merchandise that is a part or subassembly of a larger whole include, but are not limited to, window parts or subassemblies; door unit parts or subassemblies; shower and bath parts or subassemblies; solar panel mounting systems; fenestration system parts or subassemblies, such as units which make up a curtain wall, and window walls and window wall units, which collectively make up a fenestration system on the side of a building; and parts or subassemblies of storefronts; furniture parts or subassemblies; appliance parts or subassemblies, such as fin evaporator coils and systems for refrigerators; railing or deck system parts or subassemblies; fence system parts or subassemblies; motor vehicle parts or subassemblies, such as bumpers for motor vehicles; trailer parts or subassemblies, such as side walls, flooring, and roofings; electric vehicle charging station parts or subassemblies; or signage or advertising system parts or subassemblies. Parts or subassemblies described by this paragraph that are subject to duties in their entirety pursuant to existing antidumping and countervailing duty orders (defined as those antidumping and countervailing duty orders that are in effect as of the date of publication of order resulting from this investigation) are excluded from the scope of this investigation. Any part or subassembly that otherwise meets the requirements of this scope and that is not covered by other antidumping and/or countervailing duty orders remains subject to the scope of the investigation.

The scope excludes aluminum extrusions contained in fully and permanently assembled merchandise, if the assembled merchandise is not a part or subassembly of a larger whole. To be excluded under this paragraph, the assembled merchandise must also contain a component other than aluminum extrusions, beyond fasteners. In addition, to be excluded under this paragraph, the assembled merchandise must be ready for use as imported, without undergoing after importation any processing, fabrication, finishing, or assembly or the addition of parts or material (with the exception of consumable parts or material or interchangeable media or tooling).

The scope also excludes aluminum extrusions contained in unassembled merchandise if the unassembled merchandise is not a part or subassembly of a larger whole. To be excluded under this paragraph, the unassembled merchandise must also contain a component other than aluminum extrusions, beyond fasteners. In addition, to be excluded under this paragraph, the unassembled merchandise must be a packaged combination of parts that is ready to be assembled as imported, without undergoing after importation any processing, fabrication, or finishing or the addition of parts or material (with the exception of consumable parts or material or interchangeable media or tooling). To be excluded under this paragraph, the unassembled merchandise must be sold and enter as a discrete kit on one Customs entry form.

Examples of such excluded assembled and unassembled merchandise include windows with glass, door units with door panel and glass, motor vehicles, trailers, furniture, appliances, and solar panels and solar modules. Window walls and window wall units are not considered windows with glass for purposes of this exclusion.

The scope also excludes merchandise containing multiple subassemblies of a larger whole with non-extruded aluminum components beyond fasteners. A subassembly that meets the definition of subject merchandise, including any product expressly identified as subject merchandise in this scope, can only be excluded if it is fully and permanently assembled with at least one other different subassembly, and where (1) at least one of the subassemblies, if entered individually, would not itself be subject to the scope; (2) the aluminum extrusions within the merchandise collectively account for 50 percent or less of the actual weight of the combined multiple subassemblies (without including any non-extruded aluminum fasteners in the calculations); and (3) the aluminum extrusions within the merchandise collectively account for 50 percent or less of the number of pieces of the combined multiple subassemblies (without including any non-extruded aluminum fasteners in the calculations).

The scope also includes aluminum extrusions that have been further processed in a third country, including, but not limited to, the finishing and fabrication processes described above, assembly, whether with other aluminum extrusion components or with non-aluminum extrusion components, or any other processing that would not otherwise remove the merchandise from the scope if performed in the country of manufacture of the in-scope product. Third country processing; finishing; and/or fabrication, including those processes described in the scope, does not alter the country of origin of the subject aluminum extrusions.

The following aluminum extrusion products are excluded: aluminum extrusions made from an aluminum alloy with an Aluminum Association series designations commencing with the number 2 (or proprietary equivalents or other certifying body equivalents) and containing in excess of 1.5 percent copper by weight; aluminum extrusions made from an aluminum alloy with an Aluminum Association series designation commencing with the number 5 (or proprietary equivalents or other certifying body equivalents) and containing in excess of 2.0 percent magnesium by weight; and aluminum extrusions made from an aluminum alloy with an Aluminum Association series designation commencing with the number 7 (or proprietary equivalents or other certifying body equivalents) and containing in excess of 2.0 percent zinc by weight.

The scope also excludes aluminum alloy sheet or plates produced by means other than the extrusion process, such as aluminum products produced by a method of continuous casting or rolling. Cast aluminum products are also excluded. The scope also excludes unwrought aluminum in any form.

The scope also excludes collapsible tubular containers composed of metallic elements corresponding to alloy code 1080A as designated by the Aluminum Association (not including proprietary equivalents or other certifying body equivalents) where the tubular container (excluding the nozzle) meets each of the following dimensional characteristics: (1) length of 37 millimeters (mm) or 62 mm; (2) outer diameter of 11.0 mm or 12.7 mm; and (3) wall thickness not exceeding 0.13 mm.

Also excluded from the scope are extruded drawn solid profiles made from an aluminum alloy with the Aluminum Association series designation commencing with the number 1, 3, or 6 (or proprietary equivalents or other certifying body equivalents), including variants on individual alloying elements not to circumvent the other Aluminum Association series designations, which meet each of the following characteristics: (1) solid cross sectional area greater than 62.4 mm² and less than 906 mm², (2) minimum electrical conductivity of 58% of the international annealed copper standard (IACS) or maximum resistivity of 2.97 μΩ/cm, (3) a uniformly applied nonelectrically conductive temperature-resistant coating co-extruded over characteristic (1) of either polyamide, cross-linked polyethylene, or silicone rubber material which meets the following standards: (a) Vicat A temperature threshold of > 140 degrees Celsius, (b) flammability requirements of UL 94V-0, and (c) a minimum coating thickness of 0.10 mm and maximum coating thickness of 2.0 mm, with a maximum thickness tolerance of +/−0.20 mm, (4) characteristic 3 may or may not be encapsulated with a “Precision Drawn Tubing,” wall thicknesses less than 1.2mm, which is mechanically fixed in place, and (5) packaged in straight lengths, bent or formed and/or attached to hardware.

Also excluded from the scope are extruded tubing and drawn over a ID plug and through a OD die made from an aluminum alloy with the Aluminum Association series designation commencing with the number 3, 5, or 6 (or proprietary equivalents or other certifying body equivalents), including variants on individual alloying elements not to circumvent the other Aluminum Association series designations, which meet each of the following characteristics: (1) an outside mean diameter no greater than 30 mm with a tolerance less than or equal to +/− 0.10 mm, (2) uniform wall thickness no greater than 2.7 mm with wall tolerances less than or equal to +/− 0.1 mm, (3) may be coated with materials, including zinc, such that the coating material weight is no less than 3 g/m2 and no greater than 30 g/m2, and (4) packaged in continuous coils, straight lengths, bent or formed.

The scope also excludes fully and permanently assembled glass refrigerator shelves with decorative aluminum trim meeting the following characteristics: (1) aluminum trim meeting Aluminum Association series 6063-T5 designation that is anodized; (2) aluminum trim length of not more than 800mm, and (3) aluminum trim width of not more than 40mm. Such fully and permanently assembled glass refrigerator shelves include other components in addition to the aluminum trim, including, but not limited to, glass, steel, and plastic. Only fully and permanently assembled glass refrigerator shelves that require no further processing, fabrication, finishing, assembly, or the addition of any parts or material are excluded. Imports of glass refrigerator shelves are classified under HTSUS 8418.99.8050, which is being included for convenience.

Also excluded from the scope of this investigation is certain rectangular wire, imported in bulk rolls or precut strips and produced from continuously cast rolled aluminum wire rod, which is subsequently extruded to dimension to form rectangular wire with or without rounded edges. The product is made from aluminum alloy grade 1070 or 1370 (not including proprietary equivalents or other certifying body equivalents), with no recycled metal content allowed. The dimensions of the wire are 2.95 mm to 6.05 mm in width, and 0.65 mm to 1.25 mm in thickness. Imports of rectangular wire are provided for under Harmonized Tariff Schedule of the United States (HTSUS) subheadings 7605.19.0000, 7604.10.5000, or 7616.99.5190.

Also excluded from the scope of the antidumping and countervailing duty investigations on aluminum extrusions from the People's Republic of China are all products covered by the scope of the antidumping and countervailing duty orders on Aluminum Extrusions from the People's Republic of China. See Aluminum Extrusions from the People's Republic of China: Antidumping Duty Order, 76 FR 30650 (May 26, 2011); and Aluminum Extrusions from the People's Republic of China: Countervailing Duty Order, 76 FR 30653 (May 26, 2011) (collectively, Aluminum Extrusions from the People's Republic of China). Solely for the investigations on aluminum extrusions from the People's Republic of China, the following is an exhaustive list of products where the aluminum extrusion portions thereof meet the definition of subject merchandise. The language contained in the rest of the scope applies to this exhaustive list of products. Merchandise that is not included in the following list that meets the definition of subject merchandise in the 2011 antidumping and countervailing duty orders on Aluminum Extrusions from the People's Republic of China remains subject to the earlier orders. No other section of this scope language that provides examples of subject merchandise is exhaustive.

The aluminum extrusion portions of the following products are included in the scope of the investigations on aluminum extrusions from the People's Republic of China, whether assembled or unassembled: heat sinks as described above; cleaning system components like mop parts and subassemblies and poles; banner stand and back wall parts and subassemblies; fabric wall systems; drapery rails; side mount valve controls; water heater anodes; solar panel mounting systems; automotive heating and cooling system components; assembled motor cases with stators; louver assemblies; event décor; window wall and window wall units and parts; trade booths; micro channel heat exchangers; telescoping poles, pole handles, and pole attachments; flagpoles; wind sign frames; foreline hose assembly; electronics enclosures; parts and subassemblies for storefronts, including portal sets; light poles; air duct registers; outdoor sporting goods parts and subassemblies; glass refrigerator shelves; aluminum ramps; handicap ramp system parts and subassemblies; frames and parts for tents and clear span structures; parts and subassemblies for screen enclosures, patios, and sunrooms; parts and subassemblies for walkways and walkway covers; aluminum extrusions for Light Emitting Diode (LED) lights; parts and subassemblies for screen, storm, and patio doors; pontoon boat parts and subassemblies, including rub rails, flooring, decking, transom structures, canopy systems, seating; boat hulls, framing, ladders, and transom structures; parts and subassemblies for docks, piers, boat lifts and mounting; recreational and boat trailer parts and subassemblies, including subframes, crossmembers, and gates; solar tracker assemblies with gears; garage door framing systems; door threshold and sill assemblies; highway and bridge signs; bridge, street, and highway rails; scaffolding, including planks and struts; railing and support systems; parts and subassemblies for exercise equipment; weatherstripping; door bottom and sweeps; door seals; floor transitions and trims; parts and subassemblies for modular walls and office furniture; truck trailer parts and subassemblies; boat cover poles, outrigger poles, and rod holders; bleachers and benches; parts and subassemblies for elevators, lifts, and dumbwaiters; parts and subassemblies for mirror and framing systems; window treatments; parts and subassemblies for air foils and fans; bus and Recreational Vehicle (RV) window frames; sliding door rails; dock ladders; parts and subassemblies for RV frames and trailers; awning, canopy, and sunshade structures and their parts and subassemblies; marine motor mounts; linear lighting housings; and cluster mailbox systems.

Imports of the subject merchandise are primarily provided for under the following categories of the HTSUS: 7604.10.1000; 7604.10.3000; 7604.10.5000; 7604.21.0010; 7604.21.0090; 7604.29.1010; 7604.29.1090; 7604.29.3060; 7604.29.3090; 7604.29.5050; 7604.29.5090; 7608.10.0030; 7608.10.0090; 7608.20.0030; 7608.20.0090; 7609.00.0000; 7610.10.0010; 7610.10.0020; 7610.10.0030; 7610.90.0040; and 7610.90.0080.

Imports of the subject merchandise, including subject merchandise entered as parts of other products, may also be classifiable under the following additional HTSUS categories, as well as other HTSUS categories: 6603.90.8100; 7606.12.3091; 7606.12.3096; 7615.10.2015; 7615.10.2025; 7615.10.3015; 7615.10.3025; 7615.10.5020; 7615.10.5040; 7615.10.7125; 7615.10.7130; 7615.10.7155; 7615.10.7180; 7615.10.9100; 7615.20.0000; 7616.10.9090; 7616.99.1000; 7616.99.5130; 7616.99.5140; 7616.99.5190; 8302.10.3000; 8302.10.6030; 8302.10.6060; 8302.10.6090; 8302.20.0000; 8302.30.3010; 8302.30.3060; 8302.41.3000; 8302.41.6015; 8302.41.6045; 8302.41.6050; 8302.41.6080; 8302.42.3010; 8302.42.3015; 8302.42.3065; 8302.49.6035; 8302.49.6045; 8302.49.6055; 8302.49.6085; 8302.50.0000; 8302.60.3000; 8302.60.9000; 8305.10.0050; 8306.30.0000; 8414.59.6590; 8415.90.8045; 8418.99.8005; 8418.99.8050; 8418.99.8060; 8419.50.5000; 8419.90.1000; 8422.90.0640; 8424.90.9080; 8473.30.2000; 8473.30.5100; 8479.89.9599; 8479.90.8500; 8479.90.9596; 8481.90.9060; 8481.90.9085; 8486.90.0000; 8487.90.0080; 8503.00.9520; 8508.70.0000; 8513.90.2000; 8515.90.2000; 8516.90.5000; 8516.90.8050; 8517.71.0000; 8517.79.0000; 8529.90.7300; 8529.90.9760; 8536.90.8585; 8538.10.0000; 8541.90.0000; 8543.90.8885; 8547.90.0020; 8547.90.0030; 8547.90.0040; 8708.10.3050; 8708.29.5160; 8708.80.6590; 8708.99.6890; 8807.30.0060; 9031.90.9195; 9401.99.9081; 9403.99.1040; 9403.99.9010; 9403.99.9015; 9403.99.9020; 9403.99.9040; 9403.99.9045; 9405.99.4020; 9506.11.4080; 9506.51.4000; 9506.51.6000; 9506.59.4040; 9506.70.2090; 9506.91.0010; 9506.91.0020; 9506.91.0030; 9506.99.0510; 9506.99.0520; 9506.99.0530; 9506.99.1500; 9506.99.2000; 9506.99.2580; 9506.99.2800; 9506.99.5500; 9506.99.6080; 9507.30.2000; 9507.30.4000; 9507.30.6000; 9507.30.8000; 9507.90.6000; and 9603.90.8050.

While HTSUS subheadings are provided for convenience and customs purposes, the written description of the scope is dispositive.

Appendix II

List of Topics Discussed in the Issues and Decision Memorandum

I. Summary

II. Background

III. Use of Facts Otherwise Available and Adverse Inferences

IV. Subsidies Valuation

V. Changes Since the Preliminary Determination

VI. Analysis of Programs

VII. Discussion of the Issues

Comment 1: Whether PT Maspion and PT Alumindo Light Metal Industry Are Indal's Cross-Owned Input Suppliers

Comment 2: Whether INALUM Is a Government Authority

Comment 3: Whether the Unwrought Aluminum Market in Indonesia Is Distorted by Government Intervention

Comment 4: Whether the Provision of Unwrought Aluminum for Less Than Adequate Remuneration (LTAR) Is Specific

Comment 5: Whether Commerce Should Revise the Unwrought Aluminum Benchmark Applied to PT Alfo

Comment 6: Whether Commerce Should Include Value Added Tax in the Benchmark Price for the Provision of Unwrought Aluminum for LTAR

Comment 7: Whether Commerce Should Modify Its Calculation of the Benefit Conferred by the Tax Amnesty Program

VIII. Recommendation

[FR Doc. 2024-22781 Filed 10-2-24; 8:45 am]

BILLING CODE 3510-DS-P